DEPARTMENT OF DEFENSE

Office of the Secretary

Privacy Act of 1974; System of Records

AGENCY: Office of the Secretary, DOD.

ACTION: Notice to Amend two Systems of Records.

SUMMARY: The Office of the Secretary of Defense proposes to amend two systems of records notices in its inventory of record systems subject to the Privacy Act of 1974 (5 U.S.C. 552a), as amended.

DATES: The changes will be effective on September 6, 2002 unless comments are received that would result in a contrary determination.

ADDRESSES: Send comments to OSD Privacy Act Coordinator, Records Management Section, Washington Headquarters Services, 1155 Defense Pentagon, Washington, DC 20301-1155.

FOR FURTHER INFORMATION CONTACT: Mr. David Bosworth at (703) 601-4728.

SUPPLEMENTARY INFORMATION: The Office of the Secretary of Defense notices for systems of records subject to the Privacy Act of 1974 (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: August 1, 2002.
Patricia L. Toppings,
Alternate OSD Federal Register Liaison Officer, Department of Defense.

DPA DSR.A 06

System name:

Security Review Index File (February 22, 1993, 58 FR 10227).

Changes

* * * * *

System identifier:

Delete entry and replace with ‘DFOISR 06'.

* * * * *

System location:

Delete entry and replace with ‘Director, Freedom of Information and Security Review, Washington Headquarters Service, 1155 Defense Pentagon, Washington, DC 20301-1155.’

Categories of individuals covered by the system:

Delete entry and replace with ‘Department of Defense officials who present statements, testify, or who furnish information to the Congress of the United States. Department of Defense officials and citizens or organizations outside the Defense Department who submit documents, such as but not limited to, speeches and articles, for clearance prior to public release.’

Categories of records in the system:

Delete entry and replace with ‘Names, organizational affiliations, addresses, and other contact information of individuals submitting material for security review. The material submitted for review is also maintained with a database link to information about the submitting official and the action officer.'

Authority:

Delete entry and replace with ‘5 U.S.C. 301, Departmental Regulations.'

Purpose(s);

Delete entry and replace with ‘To manage the security review process for documents or materials before they are released outside of the Department of Defense. The documents and materials of completed security reviews are maintained for historical reference to ensure subsequent reviews, which may be similar in content are handled consistently.'

* * * * *

Storage:

Delete entry and replace with ‘Paper records in file folders and computer database.’

Retrievability:

Delete entry and replace with ‘Retrieved by submitting official or action officer's name and/or organization, Security Review Case Number, or subject of submitted material.'

Safeguards:

Delete entry and replace with ‘Paper files are maintained in security containers with access only to officials in accordance with assigned duties. Computer databases are password protected and accessed by individuals who have a need to know.'

* * * * *

DFOISR 06

System name:

Security Review Index File.

System location:

Director, Freedom of Information and Security Review, Washington Headquarters Service, 1155 Defense Pentagon, Washington, DC 20301-1155.

Categories of individuals covered by the system:

Department of Defense officials who present statements, testify, or who furnish information to the Congress of the United States. Department of Defense officials and citizens or organizations outside the Defense Department who submit documents, such as but not limited to, speeches and articles, for clearance prior to public release.

Categories of records in the system:

Names, organizational affiliations, addresses, and other contact information of individuals submitting material for security review. The material submitted for review is also maintained with a database link to information about the submitting official and the action officer.

Authority for maintenance of the system:

5 U.S.C. 301, Departmental Regulations.

Purpose(s):

To manage the security review process for documents or materials before they are released outside of the Department of Defense. The documents and materials of completed security reviews are maintained for historical reference to ensure subsequent reviews, which may be similar in content, are handled consistently.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Paper records in file folders and computer database.

Retrievability:

Retrieved by submitting official or action officer's name and/or organization, Security Review Case Number, or subject of submitted material.

Safeguards:

Paper files are maintained in security containers with access only to officials in accordance with assigned duties. Computer databases are password protected and accessed by individuals who have a need to know.

Retention and disposal:

Security review initial files are destroyed 2 years after clearance without amendment and 6 years after record was cleared with amendment or denied clearance. Security review appeal files which are cleared are destroyed 2 years after clearance and 6 years after record was cleared with amendment or denied.

System manager(s) and address:

Director, Freedom of Information and Security Review, Washington Headquarters Services, 1155 Defense Pentagon, Washington, DC 20301-1155.

Notification procedure:

Individuals seeking to determine whether information about themselves is contained in this system of records should address written inquiries to the Director, Freedom of Information and Security Review, Washington Headquarters Services, 1155 Defense Pentagon, Washington, DC 20301-1155.

Written requests for information should include the full name and organizational affiliation of the individual.

Record access procedures:

Individuals seeking access to information about themselves contained in this system of records should address written inquiries to Director, Freedom of Information and Security Review, Washington Headquarters Services, 1155 Defense Pentagon, Washington, DC 20301-1155.

Written requests for information should include the full name and organizational affiliation of the individual.

For personal visits to examine records, the individual should provide identification such as a driver's license or other form of picture identification.

Contesting record procedures:

The OSD rules for accessing records, for contesting contents and appealing initial agency determinations are published in OSD Administrative Instruction 81; 32 CFR part 311; or may be obtained from the system manager.

Record source categories:

Submitted documents and materials with requests for security review from organizations and individuals and comments and recommendations returned by subject matter specialists.

Exemptions claimed for the system:

None.

DPA DSR.B 11

System name:

Mandatory Declassification Review Files (February 22, 1993, 58 FR 10227).

Changes:

* * * * *

System identifier:

Delete entry and replace with ‘DFOISR 11’.

System location:

Delete entry and replace with ‘Director, Freedom of Information and Security Review, Washington Headquarters Service, 1155 Defense Pentagon, Washington, DC 20301-1155.’

Categories of individuals covered by the system:

Delete entry and replace with ‘Individuals who request Mandatory Declassification Review (MDR) or appeal an MDR determination of any classified document for the purpose of releasing declassified material to the public, as provided for under the applicable Executive Order(s) governing classified National Security Information. Other individuals in the system are action officers.’

Categories of records in the system:

Delete entry and replace with ‘Name and address of person making MDR request or appeal, identification of records requested, dates and summaries of action taken, and documentation for establishing and processing collectable fees.

Names, titles, and/or positions of security specialists and/or officials responsible for an initial or final denial on appeal of a request for declassification of a record.’

Authority for maintenance of the system:

Delete entry and replace with ‘E.O. 12958, Classified National Security Information, or other applicable Executive Order(s) governing classified National Security Information.’

Purpose(s):

Delete entry and replace with ‘To manage requests and/or appeals from individuals for the mandatory review of classified documents for the purposes of releasing declassified material to the public; and to provide a research resource of historical data on release of records so as to facilitate conformity in subsequent actions.

Data developed from this system is used for the annual report required by the applicable Executive Order(s) governing classified National Security Information. This data also serves management needs, by providing information about the number of requests; the type or category of records requested; and the average processing time.’

* * * * *

Safeguards:

Delete second sentence and replace with ‘Computer access is password protected and accessed by individuals who have a need to know.’

* * * * *

DFOISR 11

System name:

Mandatory Declassification Review Files.

System location:

Director, Freedom of Information and Security Review, Washington Headquarters Services, 1155 Defense Pentagon, Washington, DC 20301-1155.

Categories of individuals covered by the system:

Individuals who request Mandatory Declassification Review (MDR) or appeal an MDR determination of any classified document for the purpose of releasing declassified material to the public, as provided for under the applicable Executive Order(s) governing classified National Security Information. Other individuals in the system are action officers.

Categories of records in the system:

Name and address of person making MDR request or appeal, identification of records requested, dates and summaries of action taken, and documentation for establishing and processing collectable fees.

Names, titles, and/or positions of security specialists and/or officials responsible for an initial or final denial on appeal of a request for declassification of a record.

Authority for maintenance of the system:

E.O. 12958, Classified National Security Information, or other applicable Executive Order(s) governing classified National Security Information.

Purpose(s):

To manage requests and/or appeals from individuals for the mandatory review of classified documents for the purposes of releasing declassified material to the public; and to provide a research resource of historical data on release of records so as to facilitate conformity in subsequent actions.

Data developed from this system is used for the annual report required by the applicable Executive Order(s) governing classified National Security Information. This data also serves management needs, by providing information about the number of requests; the type or category of records requested; and the average processing time

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Magnetic media storage, computer database, paper computer printouts, and paper records in file folders.

Retrievability:

Retrieved by name of requester and other pertinent information, such as organization or address, subject material describing the MDR item (including date), MDR request number using computer indices, referring agency, or any combination of fields.

Safeguards:

Paper records are maintained in security containers with access limited to officials having a need-to-know based on their assigned duties. Computer systems require user passwords and users are limited according to their assigned duties to appropriate access on a need-to-know basis.

Retention and disposal:

Files that grant access to records are held in current status for two years after the end of the calendar year in which created, then destroyed. Files pertaining to denials of requests are destroyed 5 years after final determination. Appeals are retained for 3 years after final determination.

System manager(s) and address:

Director, Freedom of Information and Security Review, Washington Headquarters Services, 1155 Defense Pentagon, Washington, DC 20301-1155.

Notification procedure:

Individuals seeking to determine whether information about themselves is contained in this system of records should address written inquiries to the Director, Freedom of Information and Security Review, Washington Headquarters Services, 1155 Defense Pentagon, Washington, DC 20301-1155.

Written requests for information should include the full name and organizational affiliation of the individual at the time the record would have been created.

Record access procedures:

Individuals seeking access to information about themselves contained in this system should address written inquiries to the Director, Freedom of Information and Security Review, Washington Headquarters Services, 1155 Defense Pentagon, Washington, DC 20301-1155.

Written requests for information should include the full name and organizational affiliation of the individual at the time the record would have been created.

For personal visits to examine records, the individual should provide identification such as a driver's license or other form of picture identification.

Contesting record procedures:

The OSD rules for accessing records, for contesting contents and appealing initial agency determinations are published in OSD Administrative Instruction 81; 32 CFR part 311; or may be obtained from the system manager.

Record source categories:

Requests from individuals for Mandatory Declassification Review and subsequent release of records and information provided by form and memorandum by officials who hold the requested records, act upon the request, or who are involved in legal action stemming from the action taken.

Exemptions claimed for the system:

None.

[FR Doc. 02-19865 Filed 8-6-02; 8:45 am]

BILLING CODE 5001-08-P